DEPARTMENT OF HOMELAND SECURITY

Federal Emergency Management Agency

[Docket ID FEMA-2008-0010]

Board of Visitors for the National Fire Academy

AGENCY: Federal Emergency Management Agency, DHS.

ACTION: Committee Management; Notice of Open Federal Advisory Committee Meeting.

SUMMARY: The Board of Visitors for the National Fire Academy (Board) will meet on October 17-18, 2013. The meeting will be open to the public.

Authority: 5 U.S.C. App.; 15 U.S.C. 2206(j).

DATES: The meeting will take place on Thursday, October 17, 8:30 a.m. to 11:30 a.m. EDT and on Friday, October 18, 09:30 a.m. to 5:00 p.m. EDT. Please note that the meeting may close early if the Board has completed its business.

ADDRESSES: The meeting will be held at the National Emergency Training Center, Building H, Room 300, Emmitsburg, Maryland. Members of the public who wish to obtain details on how to gain access to the facility and directions may contact Cindy Wivell as listed in the FOR FURTHER INFORMATION CONTACT section by close of business October 9, 2013. A picture identification is needed for access. Members of the public may also participate by teleconference and may contact Cindy Wivell to obtain the call-in number and access code. For information on services for individuals with disabilities or to request special assistance, contact Cindy Wivell as soon as possible.

To facilitate public participation, we are inviting public comment on the issues to be considered by the Board as listed in the SUPPLEMENTARY INFORMATION section. Comments must be submitted in writing no later than October 9, 2013, and must be identified by docket ID FEMA-2008-0010 and may be submitted by one of the following methods:

• Federal eRulemaking Portal: http://www.regulations.gov. Follow the instructions for submitting comments.

• Mail/Hand Delivery: Cindy Wivell, 16825 South Seton Avenue, Emmitsburg, Maryland 21727.

Instructions: All submissions received must include the words “Department of Homeland Security” and the docket ID for this action. Comments received will be posted without alteration at http://www.regulations.gov, including any personal information provided.

Docket: For access to the docket to read background documents or comments received by the National Fire Academy Board of Visitors, go to http://www.regulations.gov. Handouts for the meeting will be posted at http://www.usfa.fema.gov/nfa/about/bov.shtm as soon as they are available.

There will be a 10-minute comment period after each agenda item; each speaker will be given no more than 2 minutes to speak. Please note that the public comment period may end before the time indicated, following the last call for comments. Contact Cindy Wivell to register as a speaker.

FOR FURTHER INFORMATION CONTACT: Alternate Designated Federal Officer: Denis G. Onieal, telephone (301) 447-1117.

Logistical Information: Cindy Wivell, telephone (301) 447-1157, fax (301) 447-1834, and email Cindy.Wivell@fema.dhs.gov.

SUPPLEMENTARY INFORMATION: Notice of this meeting is given under the Federal Advisory Committee Act, 5 U.S.C. App. (Pub. L. 92-463).

Purpose of the Board

The purpose of the Board is to review annually the programs of the National Fire Academy (NFA) and advise the Administrator of the Federal Emergency Management Agency (FEMA), through the United States Fire Administrator, of the operation of the NFA and any improvements therein that the Board deems appropriate. In carrying out its responsibilities, the Board examines NFA programs to determine whether these programs further the basic missions that are approved by the Administrator of FEMA, examines the physical plant of the NFA to determine the adequacy of the NFA's facilities, and examines the funding levels for NFA programs. The Board submits an annual report through the United States Fire Administrator to the Administrator of FEMA, in writing. The report provides detailed comments and recommendations regarding the operation of the NFA.

Agenda

On the first day of the meeting, the Board will swear in new members, select a Chairperson and Vice Chairperson for Fiscal Year 2014, and review and approve the minutes of the May 15, 2013, teleconference meeting.

The Board will then review and give feedback on NFA program activities, including: NFA Online, the NFA's web-based learning platform for distance learning courses; NFA's mediated course deliveries, which provide NFA training through an instructor facilitated web-based learning environment; NFA's course material download for the Regions and States, which enables direct access to NFA course materials through a web-based interface; NFA's Bring-Your-Own-Device initiative, which allows students to download the student manual to their own personal electronic devices and eliminates the use of paper-based student materials; NFA's curriculum for emergency medical services; and NFA's curriculum Enterprise Shared Workspace, a database system developed to capture and track course development and revision activities. The Board will also review and give feedback on NFA's status of course development at the end of FY 2013; NFA's curriculum development plan for the FY 2014 curriculum; and NFA's Smart Practices/Lessons Learned Report to Congress, which provides Congress with a snapshot of the lessons learned and best practices that have been incorporated into the NFA's curriculum and program areas.

The Board will discuss the Professional Development Subcommittee activities, including the Professional Development Symposium that will bring national training and education audiences together for their annual conference and support initiatives, the Fire and Emergency Services Higher Education (FESHE)/Professional Development Subcommittee restructuring, and the FESHE Recognition Update that will include a list of the colleges and universities that have been approved and that have adopted the FESHE curriculum.

On the second day, the Board will receive updates on U.S. Fire Administration data, research, and response support initiatives, and discuss deferred maintenance and capital improvements on the National Emergency Training Center (NETC) campus and FY 2014 Budget Request/Budget Planning. The Board will also engage in an annual report working session.

Dated: September 20, 2013.
Denis G. Onieal,
Superintendent, National Fire Academy, United States Fire Administration, Federal Emergency Management Agency.

[FR Doc. 2013-23376 Filed 9-24-13; 8:45 am]

BILLING CODE 9111-23-P